DEPARTMENT OF HOMELAND SECURITY

Federal Emergency Management Agency

Agency Information Collection Activities: Submission for OMB Review; Comment Request

AGENCY: Federal Emergency Management Agency, DHS.

ACTION: Notice; 30-day notice and request for comments; New collection, 1660-NW32; FEMA Form 90-152.

SUMMARY: The Federal Emergency Management Agency, as part of its continuing effort to reduce paperwork and respondent burden, invites the general public and other Federal agencies to take this opportunity to comment on a new information collection. In accordance with the Paperwork Reduction Act of 1995, this notice seeks comments concerning the FEMA Public Assistance Program Customer Satisfaction Survey results to measure program performance.

Collection of Information

Title: FEMA Public Assistance Program Customer Satisfaction Survey.

OMB Number: 1660-NW32.

Abstract: The purpose of the FEMA Public Assistance Program Customer Satisfaction Survey is to measure program performance against standards for performance and customer service: measure achievement of Government Performance and Results Act (GPRA) objectivities and generally gauge and make improvements to disaster services that increase customer satisfaction and program effectiveness.

Affected Public: Business or other for-profit, Not-for-profit, Farms, Federal Government, State, Local and Tribal Government.

Number of Respondents: 3,280.

Estimated Time per Respondent: .59 hours.

Estimated Total Annual Hour Burden: 1,920 hours.

Annual Hour Burden
Project/activity (survey, form(s), focus group, worksheet, etc.) | Number of respondents | Frequency of responses | Hour burden per response (hours) | Annual responses | Total annual hour burden (hours)
| (A) | (B) | (C) | (D) = (A × B) | (E) = (C × D)
PA Mailed Survey | 3,200 | 1 | 0.3 | 3,200 | 960
PA Focus Groups | 80 | 1 | 12 | 80 | 960
Total | 3,280 |  |  | 3,280 | 1,920

Frequency of Response: Annually.

Comments: Interested persons are invited to submit written comments on the proposed information collection to the Office of Information and Regulatory Affairs, Office of Management and Budget. Comments should be addressed to Desk Officer for the Department of Homeland Security, Federal Emergency Management Agency, and sent via electronic mail to oira.submission@omb.eop.gov or faxed to (202) 395-6974. Comments must be submitted on or before November 14, 2008.

FOR FURTHER INFORMATION CONTACT: Requests for additional information or copies of the information collection should be made to Acting Director, Records Management Division, 500 C Street, SW., Washington, DC 20472, Mail Drop Room 301, facsimile number (202) 646-3347, or e-mail address FEMA-Information-Collections@dhs.gov.

Pamela Carcirieri,
Acting Director, Records Management Division, Office of Management, Federal Emergency Management Agency, Department of Homeland Security.

[FR Doc. E8-24502 Filed 10-14-08; 8:45 am]

BILLING CODE 9110-10-P